DEPARTMENT OF AGRICULTURE

Forest Service

Northwest Forest Plan Area Advisory Committee; Correction

AGENCY: Forest Service, USDA.

ACTION: Notice of meeting; correction.

SUMMARY: The Forest Service published a document in the Federal Register of June 10, 2024, concerning the northwest Forest Plan Advisory Committee will hold a public meeting. The document contained incorrect dates for the meeting.

FOR FURTHER INFORMATION CONTACT: Jacqueline Buchanan, Designated Federal Officer, by phone at 303-275-5452 or email at Jacqueline.buchanan@usda.gov; or Katie Heard, FACA Coordinator, at Kathryn.Heard@usda.gov.

SUPPLEMENTARY INFORMATION:

Correction

In the Federal Register of June 10, 2024, in FR Doc. 2024-12662, at 89 FR 48868, in the first, column, correct under the DATES caption to read:

DATES: An in-person and virtual meeting will be held on June 25, 9 a.m. to 5 p.m. Pacific Daylight Time (PDT); June 26, 2024, 9 a.m. to 5 p.m. PDT; and June 27, 2024, 9 a.m. to 5 p.m. PDT.

Written and Oral Comments: Anyone wishing to provide in-person oral comments must pre-register by 11:59 p.m. PDT on June 17, 2024. Written public comments will be accepted through 11:59 p.m. PDT on June 17, 2024. Comments submitted after this date will be provided by the Forest Service to the committee, but the committee may not have adequate time to consider those comments prior to the meeting.

All committee meetings are subject to cancellation. For status of the meeting prior to attendance, please contact the person listed under FOR FURTHER INFORMATION CONTACT.

Dated: June 11, 2024.
Stephen Morse,
Liaison Officer.

[FR Doc. 2024-13162 Filed 6-13-24; 8:45 am]

BILLING CODE 3411-15-P